DEPARTMENT OF COMMERCE

Submission for OMB Review; Comment Request

DOC has submitted to the Office of Management and Budget (OMB) for clearance the following proposal for collection of information under the provisions of the Paperwork Reduction Act (44 U.S.C. Chapter 35).

Agency: Bureau of Economic Analysis (BEA).

Title: Initial Report on a Foreign Person's Direct or Indirect Acquisition, Establishment, or Purchase of the Operating Assets, Including Real Estate, of a U.S. Business Enterprise.

Form Number(s): BE-13, BE-14, and BE-13 Supplement C (Exemption Claim).

Agency Approval Number: 0608-0035.

Type of Request: Extension of a currently approved collection.

Burden: 900 hours.

Number of Respondents: 600 annually.

Avg Hours Per Response: 1.5 hours.

Needs and Uses: The Initial Report on a Foreign Person's Direct or Indirect Acquisition, Establishment, or Purchase of the Operating Assets, of a U.S. Business Enterprise, Including Real Estate (Form BE-13) and the Report by a U.S. Person Who Assists or Intervenes in the Acquisition of a U.S. Business Enterprise by, or Who Enters Into a Joint Venture with, a Foreign Person (Form BE-14) obtain initial data on new foreign direct investment in the United States. Survey form BE-13 collects information on the cost of new foreign direct investment in the United States, the sources of funding (i.e., the foreign parent group and/or existing U.S. affiliates of the foreign parent), and limited financial and operating data for the U.S. entity being established or acquired; the survey also collects identification information about the U.S. entity being established or acquired and about the new foreign owner. Survey form BE-14 collects information from U.S. persons who assist in an investment transaction, such as a real estate broker or attorney, or who enter into a U.S. joint venture with a foreign person. The primary purpose of this information collection is to identify new U.S. affiliates that should be included in BEA's estimates of foreign direct investment in the United States. The information is needed to update data on the universe of U.S. affiliates to ensure that it is complete, and to determine whether the new affiliates exceed the exemption criteria required for reporting in related benchmark, annual, and quarterly surveys of foreign direct investment conducted by BEA. The information is also used to improve the accuracy of universe estimates derived from the ongoing quarterly and annual surveys, which are sample surveys.

Many State and local governments have taken steps to attract new foreign direct investment to their localities. To make informed policy decisions concerning such investment, it is essential that government entities, including the U.S. Government, have the means to measure foreign direct investment in the United States, monitor changes in it, and assess its economic impact. Data from the survey are intended to be general purpose statistics on foreign direct investment that are readily available to answer any number of research and policy questions when they arise.

Affected Public: U.S. businesses or other for-profit institutions.

Frequency: One-time survey.

Respondent's Obligation: Mandatory.

Legal Authority: Title 22 U.S.C., Sections 3101-3108, as amended.

OMB Desk Officer: Paul Bugg, (202) 395-3093.

You may obtain copies of the above information collection proposal by calling or writing Diana Hynek, Departmental Paperwork Clearance Officer, Office of the Chief Information Officer, (202) 482-0266, Department of Commerce, Room 6625, 14th and Constitution Avenue, NW., Washington, DC 20230, or via the Internet at dHynek@doc.gov.

Send comments on the proposed information collection within 30 days of publication of this notice to Paul Bugg, OMB Desk Officer, via the Internet at pbugg@omb.eop.gov, or by fax at (202) 395-7245.

Dated: July 29, 2003.
Madeleine Clayton,
Management Analyst, Office of the Chief Information Officer.

[FR Doc. 03-19668 Filed 8-1-03; 8:45 am]

BILLING CODE 3510-06-P